FEDERAL ACCOUNTING STANDARDS ADVISORY BOARD

Notice of Public Hearing

Correction

In Notice document E9-1413 appearing on page 4436 in the issue of January 26, 2009, make the following correction:

In the second column, under the paragraph heading “Board Action” in the 17th line, “February” should read “February 13th”.

[FR Doc. Z9-1413 Filed 1-29-09; 8:45 am]

BILLING CODE 1505-01-D